DEPARTMENT OF AGRICULTURE

Forest Service

Categorical Exclusion for Certain Ski Area Permit Actions

AGENCY: Forest Service, USDA.

ACTION: Notice of availability; reissuance of interim directive.

SUMMARY: The Forest Service is reissuing an interim directive to guide its employees in complying with the National Environmental Policy Act when issuance of a ski area permit is a purely ministerial action and no changes are proposed in permitted activities or facilities. The interim directive implements a provision of the Omnibus Parks and Public Lands Management Act of 1996, which states that reissuance of a ski area permit for activities similar in nature and amount to the activities authorized under the previous permit shall not constitute a major Federal action. This interim directive, numbered ID 1909.15-2000-1, reissues without change the interim direction previously issued to Forest Service Handbook 1909.15, Environmental Policy and Procedures Handbook, in ID 1909.15-98-1, which was published in the Federal Register on September 9, 1998, and was issued effective September 24, 1998. The proposed interim directive was previously published for notice and comment in the Federal Register on October 27, 1997 (62 FR 55571).

DATES: Interim directive (ID) 1909.15-2000-1 is effective March 24, 2000, and expires September 24, 2001, unless the direction in the ID is incorporated in an amendment to Forest Service Handbook 1909.15 before the expiration date.

ADDRESSES: Copies of interim directive 1909.15-2000-1 are available electronically from the Forest Service via the World Wide Web/Internet at http://www.fs.fed.us/im/directives/fsh/1909.15/id_1909.15_2000_1.txt or by contacting the Forest Service, USDA, Recreation, Heritage, and Wilderness Resources Management Staff (Mail Stop 1125), P. O. Box 96090, Washington, DC 20090-6090 (telephone 202-205-1706).

FOR FURTHER INFORMATION CONTACT: Ken Karkula, Recreation, Heritage, and Wilderness Resources Management Staff (202-205-1426).

Dated: March 16, 2000.
Paul Brouha,
Acting Deputy Chief for National Forest System.

[FR Doc. 00-7041 Filed 3-21-00; 8:45 am]

BILLING CODE 3410-11-P